DEPARTMENT OF JUSTICE

Notice of Lodging of Proposed Consent Decree

In accordance with Department of Justice Policy, 28 CFR 50.7, notice is hereby given that a proposed Consent Decree in United States v. Petroff Trucking Company, Inc., Civil Action No. 20-cv-930-DWD, was lodged with the United States District Court for the Southern District of Illinois on October 24, 2022.

The proposed Consent Decree concerns a complaint filed by the United States against Defendant Petroff Trucking Company, Inc., pursuant to sections 301 and 304 of the Clean Water Act, 33 U.S.C. 1311 and 1344, to obtain from Defendant injunctive relief for violating the Clean Water Act by discharging pollutants from point sources into waters of the United States without a permit. The proposed Consent Decree resolves these allegations by requiring the Defendant to perform compensatory mitigation.

The Department of Justice will accept written comments relating to the proposed Consent Decree for thirty (30) days from the date of publication of this Notice. Please address comments to Benjamin Grillot, United States Department of Justice, Environment and Natural Resources Division, Post Office Box 7611, Washington, DC 20044, pubcomment_eds.enrd@usdoj.gov, and refer to United States v. Petroff Trucking Company, Inc., DJ # 90-5-1-1-21662.

The proposed Consent Decree may be examined at the Clerk's Office, United States District Court for the Southern District of Illinois, located at 750 Missouri Avenue, East St. Louis, IL 62201. In addition, the proposed Consent Decree may be examined electronically at https://www.justice.gov/enrd/consent-decrees.

Cherie Rogers,
Assistant Section Chief, Environmental Defense Section, Environment and Natural Resources Division.

[FR Doc. 2022-23499 Filed 10-27-22; 8:45 am]

BILLING CODE 4410-CW-P